Title 3—

The President

Proclamation 7806 of August 26, 2004

Women's Equality Day, 2004

By the President of the United States of America

A Proclamation

On Women's Equality Day, we recognize the hard work and perseverance of those who helped secure women's suffrage in the United States. With the ratification of the 19th Amendment to the Constitution in 1920, American women gained one of the most cherished rights and fundamental responsibilities of citizenship: the right to vote.

The struggle for women's suffrage in America dates back to the founding of our country. The movement began in earnest at the Seneca Falls Convention in 1848, when women drafted a Declaration of Sentiments proclaiming they had the same rights as men. In 1916, Jeannette Rankin of Montana became the first American woman elected to the United States House of Representatives, despite the fact that her fellow women would not be able to vote nationally for 4 more years. These women and many more like them worked to ensure that future generations of women could realize the promise of America.

Today, American women are leaders in business, government, law, science, medicine, the arts, education, and many other fields. Women-owned businesses account for nearly half of all privately held firms and are opening at twice the rate of male-owned businesses. Through vision, determination, and a strong work ethic, remarkable American women have broadened opportunities for themselves and women around the world.

The full participation of women and the protection of their rights as citizens are essential for freedom and democracy to flourish. In Afghanistan, women helped draft their country's new constitution in January 2004, which guarantees free elections and full participation by women. These women are eager to exercise their rights and are registering to vote in great numbers; about 40 percent of those registered to vote in the October Afghan Presidential elections are women. In Iraq, women are members of the new interim Iraqi government and the recently established National Council. They also participated in drafting the Transitional Administrative Law, which prohibits discrimination on the basis of gender, ethnicity, or religion and requires that 25 percent of the new legislature be women. In the face of great challenges, Iraqi women are building a better nation for themselves and their families.

As we look to the future, we celebrate the extraordinary accomplishments of women in America and throughout the world and renew our commitment to equality for all women, both at home and abroad.

NOW, THEREFORE, I, GEORGE W. BUSH, President of the United States of America, by virtue of the authority vested in me by the Constitution and laws of the United States, do hereby proclaim August 26, 2004, as Women's Equality Day. I call upon the people of the United States to observe this day with appropriate programs and activities.

IN WITNESS WHEREOF, I have hereunto set my hand this twenty-sixth day of August, in the year of our Lord two thousand four, and of the Independence of the United States of America the two hundred and twenty-ninth.

B

[FR Doc. 04-19908

Filed 8-27-04; 11:31 am]

Billing code 3195-01-P